DEPARTMENT OF DEFENSE

Office of the Secretary

Submission for OMB review; Comment Request

ACTION: Notice.

The Department of Defense has submitted to OMB for clearance, the following proposal for collection of information under the provisions of the Paperwork Reduction Act (44 U.S.C. Chapter 35).

DATES: Consideration will be given to all comments received by August 4, 2005.

Title, Form, and OMB Number: TRICARE Plus Enrollment Application, DD Form 2853 and TRICARE Plus Disenrollment Request, DD Form 2854; OMB Number 0720-0028.

Type of Request: Extension.

Number of Respondents: 14,289.

Responses per Respondent: 1.

Annual Responses: 14,289.

Average Burden per Response: 7 minutes for DD Form 2853 and 5 minutes for DD Form 2854.

Annual Burden Hours: 1,536.

Needs and Uses: These forms serve as an application for enrollment and disenrollment in the Department of Defense's TRICARE Plus Health Plan established in accordance with title 10 U.S.C. 1099 (which calls for a health care enrollment system) and 1086 (which authorizes TRICARE eligibility of Medicare Eligible Persons and has resulted in the development of a new enrollment option called TRICARE Plus). The information collected provides the TRICARE contractors with necessary data to determine beneficiary eligibility and to identify the selection of a health care option.

Affected Public: Individuals or households.

Frequency: On occasion.

Respondent's Obligation: Required to obtain or retain benefits.

OMB Desk Officer: Mr. John Kramer. Written comments and recommendations on the proposed information collection should be sent to Mr. Kraemer at the Office of Management and Budget, Desk Officer for DoD, Room 10236, New Executive Office Building, Washington, DC 20503.

DOD Clearance Officer: Ms. Patricia Toppings. Written requests for copies of the information collection proposal should be sent to Ms. Toppings, WHS/ESD/Information Management Division, 1225 South Clark Street, Suite 504, Arlington, VA 22202-4326.

Dated: June 27, 2005.
Patricia L. Toppings,
Alternate OSD Federal Register Liaison Officer, Department of Defense.

[FR Doc. 05-13102 Filed 7-1-05; 8:45 am]

BILLING CODE 5001-06-M